NUCLEAR REGULATORY COMMISSION

10 CFR Parts 20, 30, 40, 50, 70, and 72

[NRC-2011-0162]

Decommissioning Planning During Operations

AGENCY: Nuclear Regulatory Commission.

ACTION: Notice of public meeting, webinar and opportunity to provide comment.

SUMMARY: The U.S. Nuclear Regulatory Commission (NRC or the Commission) is seeking input from the public, licensees, Agreement States, non-Agreement States, and other stakeholders on revised draft regulatory guide (DG) 4014, “Decommissioning Planning During Operations.” This guide describes a method that the NRC staff considers acceptable for use in complying with the NRC's Decommissioning Planning Rule. The NRC will hold a public meeting and concurrent Webinar to facilitate the public's and other stakeholders' comments.

DATES: The public meeting and Webinar will be held at the U.S. Nuclear Regulatory Commission, Two White Flint North, Room T-8A01, 11554 Rockville Pike, Rockville, Maryland 20852 on July 12, 2012, from 11:30 a.m. to 4:00 p.m. (EDT). The revised draft guide will be issued by a separate notice that will contain information on submitting written comments.

FOR FURTHER INFORMATION CONTACT: Mr. James Shepherd, Office of Federal and State Materials and Environmental Management Programs, U.S. Nuclear Regulatory Commission, Washington, DC 20555-0001; telephone: 301-415-6712; email: james.shepherd@nrc.gov.

SUPPLEMENTARY INFORMATION:

I. Background

In 2011, the NRC published the Decommissioning Planning Rule (DPR) (June 17, 2011, 76 FR 33512). The DPR applies to the operational phase of a licensed facility, and requires licensees to operate in a way to minimize spills, leaks, and other unplanned releases of radioactive contaminants into the environment. It also requires licensees to check periodically for radiological contamination throughout the site, including subsurface soil and groundwater. Subsequently, to describe and make available to the public information on methods that are acceptable to the NRC staff for implementing this part of the regulations, the NRC published for comment DG-4014, “Decommissioning Planning During Operations” (December 13, 2011, 76 FR 77431). The NRC received more than 100 comments on the draft guide resulting in modifications to the draft on which the NRC staff believes public comment is appropriate. Therefore, the NRC is issuing a revision to the draft guidance (ML12179A246) that responds to the comments on the initial version.

II. Discussion

Many of the comments provided during the initial comment period on DG-4014 stated that more information about specific actions for different types of licensee should be included in the regulatory guide. Additionally, some of the comments also called for more information on how a licensee could determine in which category it fell and what actions it must take. Some commenters indicated that the NRC should identify conditions that would, in effect, exempt certain licensees with limited activities or inventories from the sampling requirements of the rule. One comment stated the guidance should not, de facto, impose backfit requirements on licensees, and others stated the guide should address restricted release of a site. In response to the comments received, the NRC staff has revised the draft guide.

III. Public Webinar

To facilitate the understanding of the public and other stakeholders of the issues addressed in the draft guide and the procedures for the submission of comments, the NRC staff has scheduled a public Webinar from 11:30 a.m. to 4:30 p.m. (EDT) on July 12, 2012. Webinar participants will be able to view the presentation slides prepared by the NRC and electronically submit comments over the Internet. Participants must register to participate in the Webinar. Registration information may be found in the meeting notice (ML12179A347). The meeting notice is also available on the NRC's public Web site at http://www.nrc.gov/public-involve/public-meetings/index.cfm. Additionally, the final agenda for the public Webinar and the revised draft regulatory guide will be posted no fewer than 10 days prior to the Webinar at this Web site. Those who are unable to participate via Webinar may also participate via teleconference. For details on how to participate via teleconference, please contact Sarah Achten, telephone: 301-415-6009; email: sarah.achten@nrc.gov; or T.R. Rowe, telephone: 301-415-8008; email: t.rowe@nrc.gov.

Dated at Rockville, Maryland, this 2nd day of July 2012.
For the Nuclear Regulatory Commission.
Keith I. McConnell,
Deputy Director, Decommissioning and Uranium Recovery Licensing Directorate, Division of Waste Management and Environmental Protection, Office of Federal and State Materials and Environmental Management Programs.

[FR Doc. 2012-17014 Filed 7-11-12; 8:45 am]

BILLING CODE 7590-01-P